DEPARTMENT OF ENERGY

Federal Energy Regulatory Commission

Combined Notice of Filings #1

Take notice that the Commission received the following electric rate filings:

Docket Numbers: ER14-360-000.

Applicants: Florida Power & Light Company.

Description: FPL Errata to the NITSA No. 162 Reallocation of Existing Section 30.9 Network Transmission Facility Credits and Request for Privileged Treatment [for Accession 20131108-5160].

Filed Date: 11/12/13.

Accession Number: 20131112-5358.

Comments Due: 5 p.m. ET 12/3/13.

Docket Numbers: ER14-392-000.

Applicants: Black Hills Colorado IPP, LLC.

Description: Order No. 784 Compliance Filing to be effective 11/27/2013.

Filed Date: 11/13/13.

Accession Number: 20131113-5117.

Comments Due: 5 p.m. ET 12/4/13.

Docket Numbers: ER14-393-000.

Applicants: PJM Interconnection, L.L.C.

Description: Notice of Cancellation of Original Service Agreement No. 3420; Queue No. X3-054 to be effective 11/11/2013.

Filed Date: 11/13/13.

Accession Number: 20131113-5119.

Comments Due: 5 p.m. ET 12/4/13.

Docket Numbers: ER14-394-000.

Applicants: Ethical Electric, Inc.

Description: Ethical Electric, Inc. FERC Tariff Filing to be effective 11/14/2013.

Filed Date: 11/13/13.

Accession Number: 20131113-5131.

Comments Due: 5 p.m. ET 12/4/13.

Docket Numbers: ER14-395-000.

Applicants: PJM Interconnection, L.L.C.

Description: Queue Position V4-022; Original Service Agreement No. 3656 to be effective 10/18/2013.

Filed Date: 11/13/13.

Accession Number: 20131113-5172.

Comments Due: 5 p.m. ET 12/4/13.

Docket Numbers: ER14-396-000.

Applicants: Southern California Edison Company.

Description: Notice of Cancellation of GIA and Distr Service Agmt with Lake Shore Mojave, LLC to be effective 1/15/2014.

Filed Date: 11/14/13.

Accession Number: 20131114-5000.

Comments Due: 5 p.m. ET 12/5/13.

Docket Numbers: ER14-397-000.

Applicants: Idaho Power Company.

Description: OATT Order No. 784 Compliance Filing to be effective 11/27/2013.

Filed Date: 11/14/13.

Accession Number: 20131114-5001.

Comments Due: 5 p.m. ET 12/5/13.

Docket Numbers: ER14-398-000.

Applicants: Southern California Edison Company.

Description: Amended SGIA with RE Rio Grande, LLC to be effective 11/15/2013.

Filed Date: 11/14/13.

Accession Number: 20131114-5002.

Comments Due: 5 p.m. ET 12/5/13.

Docket Numbers: ER14-399-000.

Applicants: Southwest Power Pool, Inc.

Description: 2490R1 Steele Flats Wind Project, LLC GIA to be effective 10/23/2013.

Filed Date: 11/14/13.

Accession Number: 20131114-5057.

Comments Due: 5 p.m. ET 12/5/13.

Docket Numbers: ER14-400-000.

Applicants: Entergy Services, Inc.

Description: LBA Agreements to be effective 12/19/2013.

Filed Date: 11/14/13.

Accession Number: 20131114-5061.

Comments Due: 5 p.m. ET 12/5/13.

Docket Numbers: ER14-401-000.

Applicants: Southwest Power Pool, Inc.

Description: 2622 OG&E and SPS Interconnection Agreement to be effective 12/31/9998.

Filed Date: 11/14/13.

Accession Number: 20131114-5067.

Comments Due: 5 p.m. ET 12/5/13.

Docket Numbers: ER14-402-000.

Applicants: PacifiCorp.

Description: PacifiCorp Energy Facilities Maintenance Agreement (Lake Side 2) to be effective 10/25/2013.

Filed Date: 11/14/13.

Accession Number: 20131114-5077.

Comments Due: 5 p.m. ET 12/5/13.

Docket Numbers: ER14-403-000.

Applicants: PacifiCorp.

Description: OATT Revised Attachment A, B & N (CCO address change) to be effective 11/15/2013.

Filed Date: 11/14/13.

Accession Number: 20131114-5078.

Comments Due: 5 p.m. ET 12/5/13.

Docket Numbers: ER14-404-000.

Applicants: Southwest Power Pool, Inc.

Description: 1374R15 Kansas Power Pool and Westar Meter Agent Agreement to be effective 11/1/2013.

Filed Date: 11/14/13.

Accession Number: 20131114-5096.

Comments Due: 5 p.m. ET 12/5/13.

Docket Numbers: ER14-405-000.

Applicants: PacifiCorp.

Description: Notice of termination of Fiber and Communications Addition Agreement (RS 657) with BPA of PacifiCorp.

Filed Date: 11/14/13.

Accession Number: 20131114-5114.

Comments Due: 5 p.m. ET 12/5/13.

Take notice that the Commission received the following foreign utility company status filings:

Docket Numbers: FC14-10-000.

Applicants: Société de cogénération de St-Félicien,.

Description: Self-Certification of Foreign Utility Company Status of Societe de cogeneration de St-Felicien, Societe en commandite.

Filed Date: 11/13/13.

Accession Number: 20131113-5180.

Comments Due: 5 p.m. ET 12/4/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2013.
Nathaniel J. Davis, Sr.,
Deputy Secretary.

[FR Doc. 2013-28015 Filed 11-21-13; 8:45 am]

BILLING CODE 6717-01-P